DEPARTMENT OF TRANSPORTATION

Bureau of Transportation Statistics

Submission for OMB Review; Comment Request

AGENCY: Bureau of Transportation Statistics (BTS) Office of the Assistant Secretary for Research and Technology (OST-R), DOT.

ACTION: Submission for OMB Review; Comment Request.

SUMMARY: BTS within the Department of Transportation has submitted the following information collection requirement to OMB for review and clearance under the Paperwork Reduction Act of 1995. This is the second notice for public comment; the first was published in the Federal Register on November 16, 2022 and no comments were received. BTS is forwarding the proposed Data Security Requirements for Accessing Confidential Data information collection to the Office of Management and Budget (OMB) for clearance simultaneously with the publication of this second notice. The full submission may be found at: http://www.reginfo.gov/public/do/PRAMain.

DATES: Comments regarding this information collection are best assured of having their full effect if received by March 6, 2023.

FOR FURTHER INFORMATION CONTACT: Clara Reschovsky, BTS Confidentiality Officer, BTS, OST-R, Department of Transportation, 1200 New Jersey Ave. SE, Room E36-324, Washington, DC 20590, (202) 768-4994, Office hours are from 8 a.m. to 5:30 p.m., E.T., Monday through Friday, except Federal holidays.

SUPPLEMENTARY INFORMATION: BTS may not conduct or sponsor a collection of information unless the collection of information displays a currently valid OMB control number and the agency informs potential persons who are to respond to the collection of information that such persons are not required to respond to the collection of information unless it displays a currently valid OMB control number.

Comments: Comments regarding (a) whether the collection of information is necessary for the proper performance of the functions of BTS, including whether the information will have practical utility; (b) the accuracy of BTS estimate of the burden of the proposed collection of information; (c) ways to enhance the quality, use, and clarity of the information to be collected, including through the use of automated collection techniques or other forms of information technology; (d) ways to minimize the burden of the collection of information on those who are to respond, including through the use of appropriate automated or other forms of information technology should be addressed to the points of contact in the FOR FURTHER INFORMATION CONTACT section.

Title of Collection: Data Security Requirements for Accessing Confidential Data.

OMB Control Number: DOT-OST-2022-0130.

Summary of Collection: Title III of the Foundations for Evidence-Based Policymaking Act of 2018 (44 U.S.C. 3583; hereafter referred to as the Evidence Act) mandates that OMB establish a Standard Application Process (SAP) for requesting access to certain confidential data assets. While the adoption of the SAP is required for statistical agencies and units designated under the Confidential Information Protection and Statistical Efficiency Act of 2018 (CIPSEA), it is recognized that other agencies and organizational units within the Executive Branch may benefit from the adoption of the SAP to accept applications for access to confidential data assets. The SAP is to be a process through which agencies, the Congressional Budget Office, State, local, and Tribal governments, researchers, and other individuals, as appropriate, may apply to access confidential data assets held by a federal statistical agency or unit for the purposes of developing evidence. With the Interagency Council on Statistical Policy (ICSP) as advisors, the entities upon whom this requirement is levied are working with the SAP Project Management Office (PMO) and with OMB to implement the SAP.

The SAP Portal is to be a single web-based common application designed to collect information from individuals requesting access to confidential data assets from federal statistical agencies and units. When an application for confidential data is approved through the SAP Portal, BTS will collect information to fulfill its data security requirements. This is a required step before providing the individual with access to restricted use microdata for the purpose of evidence building. BTS data security agreements and other paperwork, along with the corresponding security protocols, allow BTS to maintain careful controls on confidentiality and privacy, as required by law. BTS's collection of data security information will occur outside of the SAP Portal.

The following bullets outline the major components and processes in and around the SAP Portal, leading up to BTS's collection of security requirements.

• SAP Policy: At the recommendation of the ICSP, the SAP Policy establishes the SAP to be implemented by statistical agencies and units and incorporates directives from the Evidence Act. The SAP Policy may be found in OMB Memorandum 23-04.

• The SAP Portal: The SAP Portal is an application interface connecting applicants seeking data with a catalog of metadata for data assets owned by the federal statistical agencies and units. The SAP Portal is not a new data repository or warehouse; confidential data assets will continue to be stored in secure data access facilities owned and hosted by the federal statistical agencies and units. The Portal provides a streamlined application process across agencies, reducing redundancies in the application process.

• Data Discovery: Individuals begin the process of accessing restricted use data by discovering confidential data assets through the SAP metadata catalog, maintained by federal statistical agencies at www.researchdatagov.org.

• SAP Portal Application Process: Individuals who have identified and wish to access confidential data assets apply through the SAP Portal. Applicants must create an account and follow all steps to complete the application. Applicants enter personal, contact, and institutional information for the research team and provide summary information about their proposed project.

• Submission for Review: Agencies approve or reject an application within a prompt timeframe. Agencies may also request applicants to revise and resubmit their application.

• Access to Confidential Data: Approved applicants are notified through the SAP Portal that their proposal has been accepted. This concludes the SAP Portal process. Agencies will contact approved applicants to initiate completion of their security documents. The completion and submission of the agency's security requirements will take place outside of the SAP Portal.

• Collection of Information for Data Security Requirements: In the instance of a positive determination for an application requesting access to a BTS-owned confidential data asset, BTS will contact the applicant(s) to initiate the process of collecting information to fulfill its data security requirements. This process allows BTS to place the applicant(s) in a trusted access category.

Estimate of Burden: The amount of time to complete the agreements and other paperwork that comprise BTS's security requirements will vary based on the confidential data assets requested. To obtain access to BTS confidential data assets, it is estimated that the average time to complete and submit BTS's data security agreements and other paperwork is 90 minutes. This estimate does not include the time needed to complete and submit an application within the SAP Portal. All efforts related to SAP Portal applications occur prior to and separate from BTS's effort to collect information related to data security requirements.

The expected number of applications in the SAP Portal that receive a positive determination from BTS in a given year may vary. Overall, per year, BTS estimates it will collect data security information for five application submissions that received a positive determination within the SAP Portal. BTS estimates that the total burden for the collection of information for data security requirements over the course of the three-year OMB clearance will be about 22.5 hours and, as a result, an average annual burden of 7.5 hours.

Comments: As required by 5 FR 1320.8(d), comments on the information collection activities as part of this study were solicited through the publication of a 60-Day Notice in the Federal Register on November 16, 2022. BTS received no comments.

Issued in Washington, DC, on the 31st of January 2023.
Cha-Chi Fan,
Director, Office of Data Development and Standards, Bureau of Transportation Statistics, Office of the Assistant Secretary for Research and Technology.

[FR Doc. 2023-02294 Filed 2-2-23; 8:45 am]

BILLING CODE 4910-9X-P